DEPARTMENT OF ENERGY

Federal Energy Regulatory Commission

Combined Notice of Filings #1

Take notice that the Commission received the following electric corporate filings:

Docket Numbers: EC26-53-000.

Applicants: Oaktree Capital Holdings, LLC, Brookfield U.S. Company LLC.

Description: Joint Application for Authorization Under Section 203 of the Federal Power Act of Oaktree Capital Holdings, LLC, et al.

Filed Date: 1/23/26.

Accession Number: 20260123-5228.

Comment Date: 5 p.m. ET 2/13/26.

Docket Numbers: EC26-54-000.

Applicants: Carr Street Generating Station, L.P.

Description: Application for Authorization Under Section 203 of the Federal Power Act of Carr Street Generating Station, L.P.

Filed Date: 1/23/26.

Accession Number: 20260123-5229.

Comment Date: 5 p.m. ET 2/13/26.

Docket Numbers: EC26-55-000.

Applicants: Midway-Sunset Cogeneration Company.

Description: Application for Authorization Under Section 203 of the Federal Power Act of Midway-Sunset Cogeneration Company.

Filed Date: 1/23/26.

Accession Number: 20260123-5233.

Comment Date: 5 p.m. ET 2/13/26.

Take notice that the Commission received the following electric rate filings:

Docket Numbers: ER15-1706-009.

Applicants: Newark Energy Center, LLC.

Description: Compliance filing: Informational Filing Pursuant to Schedule 2 of PJM to be effective N/A.

Filed Date: 1/23/26.

Accession Number: 20260123-5206.

Comment Date: 5 p.m. ET 2/13/26.

Docket Numbers: ER19-90-008.

Applicants: Clean Energy Future—Lordstown, LLC.

Description: Refund Report: Refund Report to be effective N/A.

Filed Date: 1/26/26.

Accession Number: 20260126-5159.

Comment Date: 5 p.m. ET 2/17/26.

Docket Numbers: ER23-2492-003.

Applicants: Gunvor USA LLC.

Description: Notice of Change in Status of Gunvor USA LLC.

Filed Date: 1/21/26.

Accession Number: 20260121-5188.

Comment Date: 5 p.m. ET 2/11/26.

Docket Numbers: ER25-1315-003; ER25-1437-003; ER25-1744-004.

Applicants: Appleseed Solar, LLC, Bronson Solar, LLC, Willow Creek Wind Project, LLC.

Description: Notice of Change in Status of Willow Creek Wind Project, LLC, et al.

Filed Date: 1/23/26.

Accession Number: 20260123-5231.

Comment Date: 5 p.m. ET 2/13/26.

Docket Numbers: ER26-1120-000.

Applicants: Duke Energy Progress, LLC.

Description: § 205(d) Rate Filing: DEP-NCEMC Revised NITSA SA No. 134 to be effective 3/26/2026.

Filed Date: 1/23/26.

Accession Number: 20260123-5205.

Comment Date: 5 p.m. ET 2/13/26.

Docket Numbers: ER26-1121-000.

Applicants: New York Independent System Operator, Inc.

Description: § 205(d) Rate Filing: NYISO 205: Amended Interconnection Agreement between NYISO and HQ to be effective 2/16/2026.

Filed Date: 1/23/26.

Accession Number: 20260123-5209.

Comment Date: 5 p.m. ET 2/13/26.

Docket Numbers: ER26-1122-000.

Applicants: Basin Electric Power Cooperative, Southwest Power Pool, Inc.

Description: § 205(d) Rate Filing: Basin Electric Power Cooperative submits tariff filing per 35.13(a)(2)(iii: Basin Electric Power Cooperative Formula Rate Filing (Miles City DC Tie) to be effective 4/1/2026.

Filed Date: 1/26/26.

Accession Number: 20260126-5094.

Comment Date: 5 p.m. ET 2/17/26.

Docket Numbers: ER26-1123-000.

Applicants: Midcontinent Independent System Operator, Inc.

Description: § 205(d) Rate Filing: 2026-01-26_SA 4663 METC-Coldwater River Solar GIA (S1062) to be effective 1/13/2026.

Filed Date:

Filed Date: 1/26/26.

Accession Number: 20260126-5107.

Comment Date: 5 p.m. ET 2/17/26.

Docket Numbers: ER26-1124-000.

Applicants: Clearway Power Marketing LLC.

Description: § 205(d) Rate Filing: Market-Based Rate Tariff Revisions to be effective 1/27/2026.

Filed Date: 1/26/26.

Accession Number: 20260126-5138.

Comment Date: 5 p.m. ET 2/17/26.

Docket Numbers: ER26-1125-000.

Applicants: Southwest Power Pool, Inc., Western Area Power Administration—Upper Great Plains Region.

Description: § 205(d) Rate Filing: Western Area Power Administration—Upper Great Plains Region submits tariff filing per 35.13(a)(2)(iii: Western Area Power Administration—UGP Region—Formula Rate FIling to be effective 4/1/2026.

Filed Date: 1/26/26.

Accession Number: 20260126-5141.

Comment Date: 5 p.m. ET 2/17/26.

Docket Numbers: ER26-1126-000.

Applicants: PacifiCorp.

Description: § 205(d) Rate Filing: Order No. 898-Related Revisions to Transmission Formula Rate to be effective 1/1/2026.

Filed Date: 1/26/26.

Accession Number: 20260126-5151.

Comment Date: 5 p.m. ET 2/17/26.

Docket Numbers: ER26-1127-000.

Applicants: Midcontinent Independent System Operator, Inc.

Description: § 205(d) Rate Filing: 2026-01-26_SA 2395 MidAmerican-ITC Midwest 5th Rev GIA (H021 J041) to be effective 1/16/2026.

Filed Date: 1/26/26.

Accession Number: 20260126-5152.

Comment Date: 5 p.m. ET 2/17/26.

Docket Numbers: ER26-1128-000.

Applicants: North Rosamond Solar, LLC.

Description: Petition for Limited Waiver of North Rosamond Solar, LLC.

Filed Date: 1/23/26.

Accession Number: 20260123-5235.

Comment Date: 5 p.m. ET 2/13/26.

Docket Numbers: ER26-1129-000.

Applicants: Wind Park Bear Creek, LLC.

Description: § 205(d) Rate Filing: Market-Based Rate Application and Request for Expedited Action to be effective 1/27/2026.

Filed Date: 1/26/26.

Accession Number: 20260126-5167.

Comment Date: 5 p.m. ET 2/17/26.

Docket Numbers: ER26-1130-000.

Applicants: New York Independent System Operator, Inc.

Description: § 205(d) Rate Filing: NYISO 205: EPCA for the Class Year 2021 LI SDU SA2942 to be effective 1/9/2026.

Filed Date: 1/26/26.

Accession Number: 20260126-5181.

Comment Date: 5 p.m. ET 2/17/26.

Docket Numbers: ER26-1131-000.

Applicants: Tip Top Solar Energy Center LLC.

Description: Initial Rate Filing: MBR Application to be effective 4/1/2026.

Filed Date: 1/26/26.

Accession Number: 20260126-5234.

Comment Date: 5 p.m. ET 2/17/26.

Docket Numbers: ER26-1132-000.

Applicants: Southwest Power Pool, Inc.

Description: § 205(d) Rate Filing: Western Area Power Administration—CRSP Formula Rate to be effective 4/1/2026.

Filed Date: 1/26/26.

Accession Number: 20260126-5266.

Comment Date: 5 p.m. ET 2/17/26.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, contact the Office of Public Participation at (202) 502-6595 or OPP@ferc.gov.

Dated: January 26, 2026.
Carlos D. Clay,
Deputy Secretary.

[FR Doc. 2026-01787 Filed 1-28-26; 8:45 am]

BILLING CODE 6717-01-P